DEPARTMENT OF HEALTH AND HUMAN SERVICES

National Institutes of Health

Center for Scientific Review; Amended Notice of Meeting

Notice is hereby given of a change in the meeting of the Center for Scientific Review Special Emphasis Panel, November 05, 2020, 08:00 a.m. to November 05, 2020, 06:00 p.m., National Institutes of Health, Rockledge II, 6701 Rockledge Drive, Bethesda, MD, 20892 which was published in the Federal Register on October 06, 2020, 85 FR 63123.

This notice is amended to change the meeting start time from 8:00 a.m. to 9:00 a.m. The meeting is closed to the public.

Dated: October 8, 2020.
Ronald J. Livingston, Jr.,
Program Analyst, Office of Federal Advisory Committee Policy.

[FR Doc. 2020-22653 Filed 10-13-20; 8:45 am]

BILLING CODE 4140-01-P